DEPARTMENT OF THE INTERIOR

Minerals Management Service

Final Programmatic Environmental Assessment, Arctic Ocean Continental Shelf Seismic Surveys—2006

AGENCY: Minerals Management Service (MMS), Interior.

ACTION: Notice of Availability of a Programmatic Environmental Assessment and Finding of No Significant Impact.

SUMMARY: The Minerals Management Service (MMS) has prepared a final programmatic environmental assessment (PEA) for proposed seismic surveys in the Arctic Ocean Outer Continental Shelf (OCS) in 2006. In this PEA, OCS EIS/EA MMS 2006-038, MMS examined the potential environmental effects of the proposed action and its alternatives. Based on MMS's examination in the draft PEA of the potential impacts associated with the Proposed Action and review of comments received from the public and agencies, Alternative 6 (Seismic Surveys for Geophysical Exploration Activities would be Permitted with Existing Alaska OCS Geological and Geophysical Exploration Stipulations and Guidelines and Additional Protective Measures for Marine Mammals, including a 180/190 dB Specified-Exclusion Zone) is MMS's Selected Alternative. The Selected Alternative and the incorporated mitigation measures fulfill MMS's statutory mission and responsibilities and the stated purpose and need for the Proposed Action (to issue geophysical exploration permits for seismic surveys that are technically safe and environmentally sound) while considering environmental, technical, and economic factors. By incorporating mitigation measures into the Selected Alternative and designating them as permit stipulations and/or conditions of approval, MMS has determined that no significant adverse effects (40 CFR 1508.27) on the quality of the human environment would occur from the Selected Alternative. Therefore, an environmental impact statement is not required and MMS has issued a Finding of No Significant Impact (FONSI). The National Marine Fisheries Service was a cooperating agency on the PEA.

FOR FURTHER INFORMATION CONTACT: Minerals Management Service, Alaska OCS Region, 3801 Centerpoint Drive, #500, Anchorage, Alaska 99503-5820, Deborah Cranswick, telephone (907) 334-5267.

EA Availability: To obtain a copy of the final PEA and FONSI, you may contact the Minerals Management Service, Alaska OCS Region, Attention: Ms. Nikki Lewis, 3801 Centerpoint Drive #500, Anchorage, Alaska 99503-5820, telephone (907) 334-5206. You may also view the EA on the MMS Web site at http://www.mms.gov/alaska.

Dated: July 10, 2006.
John T. Goll,
Regional Director, Alaska OCS Region.

[FR Doc. E6-13208 Filed 8-11-06; 8:45 am]

BILLING CODE 4310-MR-P